DEPARTMENT OF HEALTH AND HUMAN SERVICES

National Institutes of Health

Extension of Public Comment Period for Request for Information on the FY 2013-2018 Strategic Plan for the Office of Disease Prevention

SUMMARY: The Office of Disease Prevention (ODP), National Institutes of Health (NIH), is amending the due date for responses to its Request for Information (RFI), published in Vol. 78, Issue 49, of the Federal Register on March 13, 2013. The due date has been extended from April 14, 2013, to April 30, 2013, to allow more time for review. Comments must be submitted electronically using the web-based form available at http://prevention.nih.gov/aboutus/strategic_plan/rfi.aspx.

FOR FURTHER INFORMATION CONTACT: Please direct all inquiries to Wilma Peterman Cross, M.S., Senior Public Health Advisor, Office of Disease Prevention, National Institutes of Health; phone, 301-496-1508; email, prevention@mail.nih.gov.

Dated: April 8, 2013.
Francis S. Collins,
Director, National Institutes of Health.

[FR Doc. 2013-08683 Filed 4-11-13; 8:45 am]

BILLING CODE 4140-01-P